DEPARTMENT OF TRANSPORTATION

Federal Aviation Administration

Categorical Exclusion From Further Environmental Review for Standard Terminal Arrival Route Procedures for Ronald Reagan Washington National Airport

AGENCY: Air Traffic Procedures Advisory Committee. Federal Aviation Administration (FAA), DOT.

ACTION: Notice.

SUMMARY: The FAA is issuing this notice to advise the public of its environmental review of two standard terminal arrival route (STAR) procedures, and one conventional arrival procedure, at Ronald Reagan Washington National Airport (DCA). As required by the National Environmental Policy Act, an evaluation has been performed on the three proposed procedures to determine the level of environmental review warranted. The FAA has elected to “Categorically Exclude from further environmental review” the three proposed arrival procedures identified as FRDMM1 (RNAV), TRUPS1 (RNAV) and NUMMY.

DATES: Effective upon publication. A Categorical Exclusion (Cat Ex) from environmental review does not require a formal public hearing or a formal public comment period prior to the Cat Ex becoming effective.

FOR FURTHER INFORMATION CONTACT: Ms. Lee Kyker, Environmental Specialist, Air Traffic Eastern Service Center, Operations Support Group, 1701 Columbia Ave., College Park, GA 30337.

SUPPLEMENTARY INFORMATION: Notice is hereby given that the FAA has elected to “Categorically Exclude from further environmental review” the proposed arrival procedures as follows: FRDMM1 (RNAV), TRUPS1 (RNAV), and NUMMY.

Project: Publish FRDMM1 (RNAV), TRUPS1 (RNAV), and NUMMY.

Location: Ronald Reagan Washington National Airport (DCA).

This project consists of publishing RNAV arrival procedures identified as the FRDMM1 (RNAV) and the TRUPS1 (RNAV) and publishing the NUMMY conventional arrival procedure. RNAV facilitates more efficient design of airspace and procedures which collectively result in improved safety, access, predictability, and operational efficiency. Improved access and flexibility for point-to-point operations help enhance reliability and reduce delays by defining more precise terminal area procedures. The NUMMY is a conventional arrival procedure which accommodates the non-RNAV aircraft into the DC Metro area from the west. The review process indicated that the proposed project will not adversely impact the environment. Consequently, the FAA has elected to “Categorically Exclude from further environmental review” the proposed procedures, based upon compliance with FAA Order 1050.1E, § 311(i).

Issued in Atlanta, GA, on August 1, 2012.
Barry A. Knight,
Acting Manager, Operations Support Group FAA, Air Traffic, Eastern Service Center.

[FR Doc. 2012-19874 Filed 8-14-12; 8:45 am]

BILLING CODE 4910-13-P